DEPARTMENT OF LABOR

Employment and Training Administration

Comment Request for Information Collection on the ETA 218, Benefit Rights and Experience Report, Extension With Revisions

AGENCY: Employment and Training Administration (ETA), Labor.

ACTION: Notice.

SUMMARY: The Department of Labor (Department), as part of its continuing effort to reduce paperwork and respondent burden, conducts a preclearance consultation program to provide the public and Federal agencies with an opportunity to comment on proposed and/or continuing collections of information in accordance with the Paperwork Reduction Act of 1995 [44 U.S.C. 3506(c)(2)(A)]. The PRA helps ensure that respondents can provide data in the desired format with minimal reporting burden (time and financial resources), collection instruments are clearly understood and the impact of collection requirements on respondents can be properly assessed.

Currently, ETA is soliciting comments concerning the collection of data on the ETA 218, Benefit Rights and Experience Report, which expires May 31, 2016.

DATES: Submit written comments to the office listed in the addresses section below on or before November 27, 2015.

ADDRESSES: Send written comments to Tom Stengle, Office of Unemployment Insurance, Room S-4524, Employment and Training Administration, U.S. Department of Labor, 200 Constitution Avenue NW., Washington, DC 20210. Telephone number: 202-693-2991 (this is not a toll-free number). Individuals with hearing or speech impairments may access the telephone number above via TTY by calling the toll-free Federal Information Relay Service at 1-877-889-5627 (TTY/TDD). Email: stengle.thomas@dol.gov. To obtain a copy of the proposed information collection request (ICR), please contact the person listed above.

SUPPLEMENTARY INFORMATION:

I. Background

Attachment to the labor force, usually measured as amount of past wages earned, is used to determine eligibility for state unemployment compensation programs. The data in the ETA 218, Benefit Rights and Experience Report, includes numbers of individuals who were and were not monetarily eligible, those eligible for the maximum benefits, those eligible based on classification by potential duration categories, and those exhausting their full entitlement as classified by actual duration categories. These data are used by the National Office in solvency studies, cost estimating and modeling, and assessment of state benefit formulas.

II. Review Focus

The Department is particularly interested in comments which:

• Evaluate whether the proposed collection of information is necessary for the proper performance of the functions of the agency, including whether the information will have practical utility;

• evaluate the accuracy of the agency's estimate of the burden of the proposed collection of information, including the validity of the methodology and assumptions used;

• enhance the quality, utility, and clarity of the information to be collected; and

• minimize the burden of the collection of information on those who are to respond, including through the use of appropriate automated, electronic, mechanical, or other technological collection techniques or other forms of information technology, e.g., permitting electronic submissions of responses.

III. Current Actions

Type of Review: Extension with revision.

Title: Benefit Rights and Experience Report, ETA 218.

OMB Number: 1205-0177.

Affected Public: State Workforce Agencies.

Estimated Total Annual Respondents: 53.

Estimated Total Annual Responses: 220.

Estimated Total Annual Burden Hours: 108 hours.

Total Estimated Annual Other Cost Burden: There is no cost for respondents.

Instruments | Respondents | Hours per response | Annual response frequency | Total responses | Annualized hours
ETA 218 for Regular Program Claimants | 53 | 0.5 | 4 | 212 | 106
ETA 218 for Federal-State EB Claimants | 2 | 0.5 | 2 | 4 | 2
Unduplicated Totals | 53 |  |  | 220 | 108

We will summarize and/or include in the request for OMB approval of the ICR, the comments received in response to this comment request; they will also become a matter of public record.

Portia Wu,
Assistant Secretary for Employment and Training, Labor.

[FR Doc. 2015-24573 Filed 9-25-15; 8:45 am]

BILLING CODE 4510-FN-P